DEPARTMENT OF COMMERCE

Foreign-Trade Zones Board

[Docket 37-2010]

Foreign-Trade Zone 38—Spartanburg County, SC; Application for Reorganization/Expansion under Alternative Site Framework

An application has been submitted to the Foreign-Trade Zones (FTZ) Board (the Board) by the South Carolina State Ports Authority, grantee of FTZ 38, requesting authority to expand the zone and reorganize under the alternative site framework (ASF) adopted by the Board (74 FR 1170, 01/12/09; correction 74 FR 3987, 01/22/09). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the provisions of the Foreign-Trade Zones Act, as amended (19 U.S.C. 81a-81u), and the regulations of the Board (15 CFR part 400). It was formally filed on May 19, 2010.

FTZ 38 was approved by the Board on May 4, 1978 (Board Order 131, 43 FR 20526, 05/12/78), and expanded on November 9, 1994 (Board Order 715, 59 FR 59992, 11/21/94), on July 23, 1997 (Board Order 910, 62 FR 40797, 07/30/97), on January 8, 1999 (Board Order 1015, 64 FR 3064, 01/20/99), on July 21, 2005 (Board Order 1401, 70 FR 44559, 08/03/05), and on October 16, 2008 (Board Order 1583, 73 FR 63675, 10/27/08).

The current zone project includes the following sites: Site 1 (20 acres)—Global Trade Center, 28 Global Drive, Greenville; Site 2 (799 acres total)—International Transport Center, Victor Hill Rd., Greer, and Gateway International Business Center, Brookshire Rd. and SC Hwy.

101, Greer; Site 3 (116 acres total)—Highway 290 Commerce Park, 201 Commerce Circle, Duncan, and Global Automotive Partners, 150 Parkway W., Duncan; Site 4 (473 acres)—Wingo Corporate Park, 5675 N. Blackstock Rd., Spartanburg; Site 5 (118 acres)—Key Logistics, 101 Michelin Dr., Laurens; Site 6 (20 acres)—Lakeside Business Center, 2355 Hwy. 101 South, Greer; Site 7 (19 acres)—ZF Lemforder, 191 Parkway West, Duncan; Site 8 (88 acres)—Riverbend Business Center, US Hwy. 29 between I-85 and I-26, Spartanburg; Site 9 (207 acres)—Corporate Center, 100 Corporate Dr., Spartanburg, and Bryant Business Park, 170 Landers Street, Spartanburg; Site 10 (334 acres)—Interchange Commerce Park, John Dodd Rd. and I-26, Spartanburg; Site 11 (51 acres)—Caliber Ridge Industrial Park, 125 Caliber Ridge Dr., Greer; and, Site 12 (4 acres)—Industrial Warehousing, dba Product Action, 100 Fortis Dr., Duncan.

The grantee's proposed service area under the ASF would be Greenville, Spartanburg, Cherokee, Oconee, Union, Anderson, and Laurens Counties, as described in the application. If approved, the grantee would be able to serve sites throughout the service area based on companies' needs for FTZ designation. The proposed service area is within and adjacent to the Greenville/Spartanburg Customs and Border Protection port of entry.

The applicant is requesting authority to reorganize and expand its existing zone project to include existing Sites 2, 3, 4, 6, 9, 10, and 11 as “magnet” sites and existing Sites 1, 5, and 7 as “usage-driven” sites, as well as to remove Sites 8 and 12 and to remove 5 acres from Site 3 and 91 acres from Site 5. The ASF allows for the possible exemption of one magnet site from the “sunset” time limits that generally apply to sites under the ASF, and the applicant proposes that Site 2 be so exempted. The applicant is also requesting approval of the following “magnet” site:

Proposed Site 13 (318 acres)—VMI Logistics Park, Victor Hill Rd., Greer. Because the ASF only pertains to establishing or reorganizing a general-purpose zone, the application would have no impact on FTZ's 38 authorized subzones.

In accordance with the Board's regulations, Maureen Hinman of the FTZ staff is designated examiner to evaluate and analyze the facts and information presented in the application and case record and to report findings and recommendations to the Board.

Public comment is invited from interested parties. Submissions (original and 3 copies) shall be addressed to the Board's Executive Secretary at the address listed below. The closing period for their receipt is August 2, 2010. Rebuttal comments in response to material submitted during the foregoing period may be submitted during the subsequent 15-day period (to August 16, 2010).

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Maureen Hinman at Maureen.Hinman@trade.gov or (202) 482-0627.

Dated: May 19, 2010.
Andrew McGilvray,
Executive Secretary.

[FR Doc. 2010-13059 Filed 5-28-10; 8:45 am]

BILLING CODE P